Title 3—

The President

Proclamation 7643 of January 27, 2003

National Consumer Protection Week, 2003

By the President of the United States of America

A Proclamation

Few technologies have become fixtures in our daily lives as quickly as computers and the Internet. Today, more than half of all Americans log on to the Internet, and that number is growing. Our access to information, entertainment, credit and banking, products, and services from every corner of the world is greater than ever before. As our personal information becomes more accessible, consumers, corporations, and government agencies must take precautions against the misuse of that information.

Computer technology and the Internet have revolutionized our ability to communicate and share knowledge. This new freedom offers incredible opportunities; but as individuals and as a Nation, we must guard against the misuse of personal information and identity theft. The theme of this year's National Consumer Protection Week is “Information Security,” and during this week we resolve to help all Americans learn how to keep personal information secure.

For consumers, securing a computer is a matter of routine maintenance and caution. Effective passwords, firewalls, and up-to-date antivirus software can help protect computers, and the personal or business information we store on them, from those who would damage a network operation or steal personal information to commit a crime. By practicing effective information security measures, all citizens can contribute to the protection of our national information infrastructure.

To assist consumers, public and private entities have joined forces to highlight the importance of information security. They include the Federal Trade Commission, the U.S. Postal Service, the U.S. Postal Inspection Service, the Federal Consumer Information Center, the National Association of Attorneys General, the National Consumers League, the American Association of Retired Persons, the Better Business Bureau, the Consumer Federation of America, and the National Association of Consumer Agency Administrators. The National Strategy to Secure Cyberspace also offers guidance for the full range of computer users on information security. By working together, we can help consumers and businesses understand how information security affects their decisions at home and in the marketplace.

During National Consumer Protection Week, I encourage all Americans to take the appropriate steps to ensure the security of their personal or sensitive information. By learning ways to safeguard this data, individuals can help ensure their financial security, and contribute to the strength and prosperity of our Nation.

NOW, THEREFORE, I, GEORGE W. BUSH, President of the United States of America, by virtue of the authority vested in me by the Constitution and laws of the United States, do hereby proclaim February 2 through 8, 2003, as National Consumer Protection Week. I call upon Government officials, industry leaders, and consumer advocates to provide consumers with information about how we can help safeguard the economic future of all Americans by keeping our personal information secure.

IN WITNESS WHEREOF, I have hereunto set my hand this twenty-seventh day of January, in the year of our Lord two thousand three, and of the Independence of the United States of America the two hundred and twenty-seventh.

B

[FR Doc. 03-2366

Filed 1-29-03; 9:52 am]

Billing code 3195-01-P